DEPARTMENT OF THE INTERIOR

Environmental Impact Statements; Availability

AGENCY: National Park Service.

ACTION: Notice of availability for the Record of Decision on the Final Environmental Impact Statement, disposition of Bureau of Mines property, Twin Cities Research Center Main Campus, Hennepin County, Minnesota.

SUMMARY: Pursuant to Section 102(2)(C) of the National Environmental Policy Act of 1969 (42 U.S.C. 4332(C)), the National Park Service (NPS) announces the availability of the Record of Decision (ROD) for the final Environmental Impact Statement (EIS) for the disposition of the Bureau of Mines property, Twin Cities Research Center Main Campus (Center), Hennepin County, Minnesota. On January 15, 2010, the Midwest Regional Director approved the ROD for the project. As soon as practicable, the NPS will begin to implement the preferred alternative contained in the final EIS.

The Department of the Interior (Department) selected Alternative D (Modification of Land, Structures, or Other Improvements by the Federal Government Prior to Conveyance or Retention of the Center), the preferred alternative, as described in the final EIS for the disposition of the Center issued in December 2009.

Under Alternative D, the Federal Government will manage and bear the cost of modification for all or part of the land, structures, or other improvements prior to conveyance or retention of the Center. Following completion of the modifications, the Federal Government will dispose of the Center property through a transfer to a university or nonfederal government entity without conditions, or a transfer to a university or nonfederal government entity with conditions, or will retain the property. The Department also selected the open space/park land use scenario that will convert the Center property to open space and natural areas where the focus will be on restoration and use of the natural environment. This will be accomplished by removing some or all buildings, structures, and roadways. Nonnative plant species will be identified and removed. Native vegetation will be planted and the site naturalized to recreate the historic characteristics of an open oak savanna, prairie-type setting typical to this vicinity.

The Department—after consideration of the findings of the EIS, the review of responses received on the request for proposals for future use of the Center property, and the fact that the Center property is located within the Mississippi National River and Recreation Area (MNRRA) boundary—determined that future management authority will be transferred to the NPS.

The ROD includes a statement of the decision made, synopses of other alternatives considered, the basis for the decision, a description of the environmentally preferable alternative, a finding on impairment of park resources and values, and an overview of public involvement in the decisionmaking process.

FOR FURTHER INFORMATION CONTACT: Superintendent Paul Labovitz, MNRRA, Suite 105, 111 Kellogg Boulevard, East St. Paul, Minnesota 55101; telephone 651-290-4160. You may also view the document via the Internet through the NPS Planning, Environment, and Public Comment Web site (http://parkplanning.nps.gov); simply click on the link to the MNRRA.

Dated: January 15, 2010.
Ernest Quintana,
Regional Director, Midwest Region.

[FR Doc. 2010-4030 Filed 2-25-10; 8:45 am]

BILLING CODE P